DEPARTMENT OF THE INTERIOR

Bureau of Reclamation

[RR06230000, 14XR0680A1, RN076949980000501]

Notice To Extend the Public Comment Period for the Northwest Area Water Supply Project Draft Supplemental Environmental Impact Statement

AGENCY: Bureau of Reclamation, Interior.

ACTION: Notice.

SUMMARY: The Bureau of Reclamation is announcing a 30-day extension of the public comment period for the Northwest Area Water Supply Project Draft Supplemental Environmental Impact Statement (Draft SEIS). The originally announced comment period ends on August 11, 2014, but has been extended through September 10, 2014. The original notice of availability of the Draft SEIS and the public hearings was published in the Federal Register on June 27, 2014 (79 FR 36556).

DATES: Comments on the Draft SEIS should be postmarked by September 10, 2014.

ADDRESSES: Send written comments to Ms. Alicia Waters, Project Manager, Bureau of Reclamation, P.O. Box 1017, Bismarck, ND 58502; or via email to awaters@usbr.gov.

FOR FURTHER INFORMATION CONTACT: Ms. Alicia Waters, Project Manager, (701) 221-1206; or by email at awaters@usbr.gov.

SUPPLEMENTARY INFORMATION:

Public Disclosure Statement

Before including your address, phone number, email address, or other personal identifying information in your comment, you should be aware that your entire comment—including your personal identifying information—may be made publicly available at any time. While you can ask us in your comment to withhold your personal identifying information from public review, we cannot guarantee that we will be able to do so.

Dated: July 30, 2014.
John F. Soucy,
Deputy Regional Director, Great Plains Region.

[FR Doc. 2014-18466 Filed 8-4-14; 8:45 am]

BILLING CODE 4310-MN-P